DEPARTMENT OF ENERGY

Federal Energy Regulatory Commission

[Project No. 2561-057]

Sho-Me Power Electric Cooperative; Notice of Meeting

a. Project Name and Number: Niangua Hydroelectric Project.

b. Applicant: Sho-Me Power Electric Cooperative.

c. Date and Time of Meeting: Thursday, June 12, 2025, from 11:00 p.m. to 12:15 p.m. Eastern Standard Time (10:00 a.m. to 11:15 p.m. Central Standard Time).

d. FERC Contact: Rebecca Martin, (202) 502-6012, rebecca.martin@ferc.gov.

e. Purpose of Meeting: As requested by the Osage Nation, Commission staff will hold a meeting with representatives from the Advisory Council on Historic Preservation (Advisory Council), Missouri State Historic Preservation Office (Missouri SHPO), Sho-me Power Electric Cooperative (licensee), and affected Native American Tribes to discuss the Commission's determination letter for the surrender of the Niangua Hydrolectric Project pursuant to section 106 of the National Historic Preservation Act. Specifically, Commission staff will discuss it's March 19, 2025, letter to the Advisory Council and Missouri SHPO revising its determination letter since the issuance of Commission staff's February 4, 2025 letter providing a revised Draft Memorandum of Agreement for Adverse Effects to Historic Properties. The meeting will be held virtually via Microsoft Teams.

f. Intervenors in the referenced proceeding may attend the meeting as observers; however, participation will be limited to representatives from the Osage Nation, Advisory Council, Missouri SHPO, Tribes, licensee, and Commission staff. If meeting attendees decide to disclose information about a specific location which could create a risk or harm to an archaeological site or Native American cultural resource, attendees other than the Advisory Council, Missouri SHPO, Tribal representatives, licensee, and Commission staff will be excused for that portion of the meeting.

A summary of the meeting will be placed in the public record of this proceeding. As appropriate, the meeting summary will include both a public, redacted version that excludes any information about the specific location of the archeological site or Native American cultural resource and an unredacted privileged version. Intervenors planning to attend the meeting should notify Rebecca Martin at (202) 502-6012 or rebecca.martin@ferc.gov by Monday June 9, 2025, to RSVP and to receive specific instructions for logging in to the meeting.

Dated: May 28, 2025.
Debbie-Anne A. Reese,
Secretary.

[FR Doc. 2025-10101 Filed 6-3-25; 8:45 am]

BILLING CODE 6717-01-P